DEPARTMENT OF COMMERCE

Census Bureau

Current Population Survey (CPS)—School Enrollment/Computer Use/and Cell Phone Use Supplement

ACTION: Proposed collection; comment request.

SUMMARY: The Department of Commerce, as part of its continuing effort to reduce paperwork and respondent burden, invites the general public and other federal agencies to take this opportunity to comment on proposed and/or continuing information collections, as required by the Paperwork Reduction Act of 1995, Pub. L. 104-13 (44 U.S.C. 3506(c)(2)(A)).

DATES: Written comments must be submitted on or before June 20, 2003.

ADDRESSES: Direct all written comments to Diana Hyneck, Departmental Paperwork Clearance Officer, Department of Commerce, Room 6625, 14th and Constitution Avenue, NW., Washington, DC 20230 (or via the Internet at DHyneck@doc.gov).

FOR FURTHER INFORMATION CONTACT: Request for additional information or copies of the information collection instrument(s) and instructions should be directed to Karen Woods, Census Bureau, FOB 3, Room 3340, Washington, DC 20233-8400, (301) 763-3806.

SUPPLEMENTARY INFORMATION:

I. Abstract

The Census Bureau plans to request clearance for the collection of data concerning three combined supplements to be conducted in conjunction with the October 2003 CPS. The three combined supplements are: the School Enrollment Supplement, the Computer Use Supplement, and the Cell Phone Use Supplement. Title 13, United States Code, Section 182, and Title 29, United States Code, Sections 1-9, authorize the collection of the CPS information.

The School Enrollment Supplement is jointly sponsored by the Census Bureau and the Bureau of Labor Statistics. The basic school enrollment questions have been collected annually in the CPS for 30 years. This survey is the only source of national data on the age distribution and family characteristics of college students and the only source of demographic data on preprimary school enrollment. As part of the federal government's effort to collect data and provide timely information to local governments for policymaking decisions, the survey provides national trends in enrollment and progress in school.

The Computer Use Supplement is jointly sponsored by the National Telecommunications and Information Administration, the Economics and Statistics Administration, the National Center for Education Statistics, and the Bureau of Labor Statistics. This survey will provide a source of national and state level data on the demographic, social, and economic characteristics of Internet users and non-users. The development of statistical profiles of disadvantaged groups and specific geographic areas will permit public-private partnerships to target assistance to those that are most in need. It will provide information on where users access the Internet (at home, work, school, or other facility), the features used, and the reasons for nonuse of the Internet.

The Cell Phone Use Supplement is jointly sponsored by the Bureau of Labor Statistics and the Census Bureau. This survey will provide a source of national and state level data on the demographic, social, and economic characteristics of cell phone users and nonusers. These data will help federal data collection agencies to determine if primary cell phone users constitute a new source of nonresponse in telephone surveys. The supplement data also will make it possible to study general nonresponse bias in telephone surveys.

II. Method of Collection

The combined school enrollment, computer use, and cell phone use information will be collected by both personal visit and telephone interviews in conjunction with the regular October CPS interviewing. All interviews are conducted using computer-assisted interviewing.

III. Data

OMB Number: 0607-0464.

Form Number: There are no forms. We conduct all interviews on computers.

Type of Review: Regular.

Affected Public: Households.

Estimated Number of Respondents: 57,000.

Estimated Time Per Response: 12 minutes.

Estimated Total Annual Burden Hours: 11,400.

Estimated Total Annual Cost: The only cost to respondents is that of their time.

Respondent's Obligation: Voluntary.

Legal Authority: Title 13, U.S.C., Section 182, and Title 29, U.S.C., Sections 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for the Office of Management and Budget approval of this information collection; they also will become a matter of public record.

Dated: April 15, 2003.
Madeleine Clayton,
Management Analyst, Office of the Chief Information Officer.

[FR Doc. 03-9676 Filed 4-18-03; 8:45 am]

BILLING CODE 3510-07-M